DEPARTMENT OF THE INTERIOR

Fish and Wildlife Service

Proposed Information Collections; Request for Comment

ACTION: Notice of proposed information collection; request for comments.

SUMMARY: The U.S. Fish and Wildlife Service (Service) plans to submit the collection of information described below to the Office of Management and Budget (OMB) for approval under the provisions of the Paperwork Reduction Act of 1995. Copies of the specific information collection requirements, related forms and explanatory material may be obtained by contacting the Service's Information Collection Clearance Officer at the address provided below.

DATES: Consideration will be given to all comments received on or before July 10, 2000.

ADDRESSES: Comments and suggestions on the requirements should be sent to Rebecca A. Mullin, Service Information Collection Clearance Officer, U.S. Fish and Wildlife Service, 4401 North Fairfax Drive, Suite 222, Arlington, VA 22203; 703/358-2287; or electronically to Rebecca_Mullin@fws.gov

FOR FURTHER INFORMATION CONTACT: Sylvia Cabrera at 4401 North Fairfax Drive, Suite 140, Arlington, VA 22203; 703/358-1842; or electronically to Sylvia_Cabrera@fws.gov

SUPPLEMENTARY INFORMATION: The OMB regulations at 5 CFR part 1320, which implement provisions of the Paperwork Reduction Act of 1995 (Public Law 104-13), require that interested members of the public and affected agencies have an opportunity to comment on information collection and record keeping activities (see 5 CFR 1320.8(d)). We are seeking clearance from the OMB to collect information in conjunction with carrying out our responsibilities under the Federal Aid in Sport Fish Restoration Act (16 U.S.C. 777-777K) commonly referred to as the Dingell-Johnson Act, and the Federal Aid in Wildlife Restoration Act (16 U.S.C. 699-699i) commonly referred to as the Pitman-Robertson Act. Under these acts, as amended, almost $400 million in grants are provided annually to States for projects to support sport fish and wildlife management and restoration, including the acquisition and improvement of aquatic resources, fishing access, fish stocking, and the acquisition and improvement of wildlife management areas, facilities, and access. Grants also are provided for aquatic education and hunter education, maintenance of completed projects, and research into the problems affecting fish and wildlife resources. Those projects help ensure that the American people have adequate opportunities for wildlife-related recreation. To assist in carrying out its responsibilities, the Service has sponsored national surveys of fishing and hunting at about 5 year intervals since 1955. The Bureau of the Census conducts the survey for the Service. The survey data are needed to allow the Service to effectively administer the Sport Fish and Wildlife Restoration Grant Programs, and to help States develop project proposals and conservation programs that meet the needs of their populations. The survey collects information on the number of people participating in wildlife-related recreation, the number of days and expenditures spent on those activities. Survey data are needed to provide comparable state level information on existing recreation demands and to provide a basis for projecting future demands to effectively meet the needs of the American people. The information is needed to evaluate the effectiveness of existing programs in meeting those needs, formulate new policies, develop programs, and support budget proposals and legislation for the benefit of sport fish and wildlife restoration. Data are needed to evaluate the status and trends of recreational uses, as well as the values and benefits, of fish and wildlife resources. The comprehensive comparable state-level data provided by the survey are not available from other sources. The Service is requesting a three year term of approval for this information collection. An agency may not conduct or sponsor, and a person is not required to respond to, a collection of information unless it displays a currently valid OMB control number.

We invite your comments on: (1) Whether the collection of information is necessary for the proper performance of the functions of the agency including whether the information will have practical utility; (2) the accuracy of the agency's estimate of the burden of the collection information; (3) ways to enhance the quality, utility and clarity of the information to be collected; and (4) ways to minimize the burden of the collection of information on respondents.

Title: 2001 National Survey of Fishing, Hunting, and Wildlife-Associated Recreation (FHWAR).

Approval Number: New.

Survey Form Numbers: FH-2 (Screen), FH-3 (Sportsmen), FH-4 (non-consumptive) Questionnaires.

Description and Use: The 2001 National Survey of Fishing, Hunting, and Wildlife Associated Recreation will be the 10th one conducted since 1955. It is conducted every 5 years and is requested by the States through the International Association of Fish and Wildlife Agencies. It will be conducted by the Bureau of the Census using computer-assisted telephone or in-person interviews. A sample of sportsmen and non-consumptive participants will be selected from a household screen. Sample persons will be asked about their participation and expenditures. Three detailed interviews will be conducted during the survey year. The 2001 FHWAR Survey will be similar in scope to past surveys. It will generate information identified as priority data needed by the Federal and State fish and wildlife agencies responsible for administering the Sport Fish and Wildlife Restoration grant programs. Accordingly, the 2001 FHWAR Survey will be a comprehensive data base of fish and wildlife-related recreation activities such as freshwater, saltwater, and Great Lakes fishing; and big game, small game, migratory bird, and other animal hunting. Wildlife watching (non-consumptive) activities include wildlife observation, feeding, and photographing around the home and on trips away from home. Information is collected on days of participation, the species of animals sought, and how much money was spent on trips and for equipment. Information on the characteristics of participants include age, income, sex, education, race, and residency. The survey data has State level reliability. Federal and State fish and wildlife agencies use information from the survey as a basis to formulate management and policy decisions related to sport fish and wildlife restoration. Participation patterns and trend information assist in identifying present and future needs and demands. The information is used for planning the acquisition, development, and enhancement of fish and wildlife resources for the benefit of wildlife-related recreation. Data on expenditures, economic evaluation, and participation are used by land managing agencies to assess the value of fish and wildlife-related uses of natural resources. Expenditure information is used by States to estimate the economic impact of wildlife-related recreation expenditures on their economies and to support the dedication of tax revenues to support fish and wildlife restoration programs. The information collected on resident saltwater fishing will assist coastal States in determining the proper ratio for allocating funds between freshwater and saltwater projects as required by the Federal Aid in Sport Fish Restoration Act, as amended. The information is not readily available elsewhere because few States have saltwater licenses or conduct their own surveys. If the 2001 FHWAR Survey data were not available it would impair the ability of those States to meet their obligations under the Act.

In summary, the information collection is needed to assist the Fish and Wildlife Service and the State fish and wildlife agencies in administering the Sport Fish and Wildlife Restoration grant programs. The 2001 FHWAR Survey will provide up-to-date information on the uses and demands for wildlife-related recreation resources, trends in the uses of those resources, and a basis for developing and evaluating programs and projects to meet existing and future needs. The information collection is subject to the Paperwork Reduction Act requirements for such activity, which includes soliciting comments from the general public regarding the nature and burden imposed by the collection.

Frequency of Collection: Household screen interviews and the first detailed sportsmen and non-consumptive participant interviews will be conducted April-June 2001. The second detailed interviews will be conducted September-October 2001. The third and last detailed interviews will be conducted January-March 2002.

Description of Respondents: Individuals.

Estimated Completion Time: We estimate the average completion time per respondent to be about 7 minutes for the screen and 15 minutes for the detailed interviews. A respondent will average 2 interviews during the survey period.

Number of Respondents: It is estimated that there will be 80,000 total respondents.

Dated: April 28, 2000.
Jamie Rappaport Clark,
Director, U.S. Fish and Wildlife Service.

[FR Doc. 00-11223 Filed 5-8-00; 8:45 am]

BILLING CODE 4310-55-M